POSTAL SERVICE

Privacy Act of 1974; System of Records

AGENCY: Postal Service.™

ACTION: Notice of modification to existing systems of records.

SUMMARY: The United States Postal Service® is proposing to modify seventeen of its General Privacy Act Systems of Records. These modifications reflect the title and address changes resulting from an organizational re-design of the Postal Service.

DATES: The revision will become effective without further notice on October 24, 2011 unless comments received on or before that date result in a contrary determination.

ADDRESSES: Comments may be mailed or delivered to the Records Office, United States Postal Service, 475 L'Enfant Plaza, SW., Room 4541, Washington, DC 20260-2201. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service™ has reviewed its systems of records and has determined that these seventeen General Privacy Act Systems of Records should be revised to modify the system manager(s) and address and notification procedure.

I. Background

In 2011, the Postal Service under went a significant management and organizational re-design. Many executive titles were updated to reflect the new responsibilities of the leadership teams. These changes are proposed for the reasons discussed below.

II. Rationale for Changes to USPS Privacy Act Systems of Records

On January 14, 2011, Patrick Donahoe was sworn in as the 73rd Postmaster General of the United States. Under his leadership, some officer titles were changed to meet the new structure of the revised organization.

III. Description of Changes to Systems of Records

The Postal Service is modifying seventeen systems of records: USPS 200.000, Labor Relations Records; USPS 500.200, Controlled Correspondence, FOIA, and Privacy Act Disclosure Records; USPS 600.000, Legal Records Related to Mail; USPS 600.100, General Legal Records; USPS 600.200, Privacy Act and FOIA Appeal and Litigation Records; USPS 600.300, Public and Confidential Financial Disclosure Reports; USPS 600.400, Administrative Litigation Records; USPS 810.100, http://www.usps.com Registration; USPS 810.300, Offline Registration, Payment, and Fulfillment; USPS 820.100, Mailer Services—Applications and Approvals; USPS 820.200, Mail Management and Tracking Activity; USPS 870.100, Trust Funds and Transaction Records; USPS 870.200, Postage Meter and PC Postage Customer Data and Transaction Records; USPS 880.000, Post Office and Retail Services; USPS 890.000, Sales, Marketing, Events, and Publications; USPS 900.000, International Services; and USPS 910.000, Identity and Document Verification Services. Pursuant to 5 U.S.C. 552a(e)(11), interested persons are invited to submit written data, views, or arguments on this proposal. A report of the proposed modification has been sent to Congress and to the Office of Management and Budget for their evaluation. The Postal Service does not expect this amended notice to have any adverse effect on individual privacy rights. The Postal Service proposes amending the systems as shown below:

USPS 200.000

SYSTEM NAME:

Labor Relations Records.

USPS 500.200

SYSTEM NAME:

Controlled Correspondence, FOIA, and Privacy Act Disclosure Records

USPS 600.000

SYSTEM NAME:

Legal Records Related to Mail

USPS 600.100

SYSTEM NAME:

General Legal Records

USPS 600.200

SYSTEM NAME:

Privacy Act and FOIA Appeal and Litigation Records

USPS 600.300

SYSTEM NAME:

Public and Confidential Financial Disclosure Reports

USPS 600.400

SYSTEM NAME:

Administrative Litigation Records

USPS 810.100

SYSTEM NAME:

http://www.usps.com Registration

USPS 810.300

SYSTEM NAME:

Offline Registration, Payment, and Fulfillment

USPS 820.100

SYSTEM NAME:

Mailer Services—Applications and Approvals

USPS 820.200

SYSTEM NAME:

Mail Management and Tracking Activity

USPS 870.100

SYSTEM NAME:

Trust Funds and Transaction Records

USPS 870.200

SYSTEM NAME:

Postage Meter and PC Postage Customer Data and Transaction Records

USPS 880.000

SYSTEM NAME:

Post Office and Retail Services

USPS 890.000

SYSTEM NAME:

Sales, Marketing, Events, and Publications

USPS 900.000

SYSTEM NAME:

International Services

USPS 910.000

SYSTEM NAME:

Identity and Document Verification Services

USPS 200.000

SYSTEM NAME:

Labor Relations Records.

SYSTEM MANAGER(S) AND ADDRESS:

* * * * *

[CHANGE TO READ]

For records of non-REDRESS ADR staff providers: General Counsel and Executive Vice President, United States Postal Service, 475 L'Enfant Plaza, SW., Washington, DC 20260.

* * * * *

USPS 500.200

SYSTEM NAME:

Controlled Correspondence, FOIA, and Privacy Act Disclosure Records.

SYSTEM MANAGER(S) AND ADDRESS:

* * * * *

[CHANGE TO READ]

For other correspondence in this system: Vice President, Government Relations and Public Policy, United States Postal Service, 475 L'Enfant Plaza, SW., Washington, DC 20260.

For FOIA and Privacy Act requests: General Counsel and Executive Vice President, United States Postal Service, 475 L'Enfant Plaza, SW., Washington, DC 20260.

* * * * *

USPS 600.000

SYSTEM NAME:

Legal Records Related to Mail.

SYSTEM MANAGER(S) AND ADDRESS:

[CHANGE TO READ]

General Counsel and Executive Vice President, United States Postal Service, 475 L'Enfant Plaza, SW., Washington, DC 20260.

* * * * *

USPS 600.100

SYSTEM NAME:

General Legal Records.

SYSTEM MANAGER(S) AND ADDRESS:

[CHANGE TO READ]

General Counsel and Executive Vice President, United States Postal Service, 475 L'Enfant Plaza, SW., Washington, DC 20260.

* * * * *

USPS 600.200

SYSTEM NAME:

Privacy Act and FOIA Appeal and Litigation Records.

SYSTEM MANAGER(S) AND ADDRESS:

[CHANGE TO READ]

General Counsel and Executive Vice President, United States Postal Service, 475 L'Enfant Plaza, SW., Washington, DC 20260.

* * * * *

USPS 600.300

SYSTEM NAME:

Public and Confidential Financial Disclosure Reports.

SYSTEM MANAGER(S) AND ADDRESS:

[CHANGE TO READ]

General Counsel and Executive Vice President, United States Postal Service, 475 L'Enfant Plaza, SW., Washington, DC 20260.

* * * * *

USPS 600.400

SYSTEM NAME:

Administrative Litigation Records.

SYSTEM MANAGER(S) AND ADDRESS:

* * * * *

[CHANGE TO READ]

General Counsel and Executive Vice President, United States Postal Service, 475 L'Enfant Plaza, SW., Washington, DC 20260.

* * * * *

USPS 810.100

SYSTEM NAME:

http://www.usps.com Registration.

SYSTEM MANAGER(S) AND ADDRESS:

[CHANGE TO READ]

President and Chief Marketing/Sales Officer, United States Postal Service, 475 L'Enfant Plaza, SW., Washington, DC 20260.

* * * * *

USPS 810.300

SYSTEM NAME:

Offline Registration, Payment, and Fulfillment.

SYSTEM MANAGER(S) AND ADDRESS:

[CHANGE TO READ]

President and Chief Marketing/Sales Officer, United States Postal Service, 475 L'Enfant Plaza, SW., Washington, DC 20260.

* * * * *

USPS 820.100

SYSTEM NAME:

Mailer Services—Applications and Approvals.

SYSTEM MANAGER(S) AND ADDRESS:

[CHANGE TO READ]

President and Chief Marketing/Sales Officer, United States Postal Service, 475 L'Enfant Plaza, SW., Washington, DC 20260.

* * * * *

USPS 820.200

SYSTEM NAME:

Mail Management and Tracking Activity.

SYSTEM MANAGER(S) AND ADDRESS:

[CHANGE TO READ]

President and Chief Marketing/Sales Officer, United States Postal Service, 475 L'Enfant Plaza, SW., Washington, DC 20260.

* * * * *

USPS 870.100

SYSTEM NAME:

Trust Funds and Transaction Records.

SYSTEM MANAGER(S) AND ADDRESS:

[CHANGE TO READ]

President and Chief Marketing/Sales Officer, United States Postal Service, 475 L'Enfant Plaza, SW., Washington, DC 20260.

* * * * *

USPS 870.200

SYSTEM NAME:

Postage Meter and PC Postage Customer Data and Transaction Records.

SYSTEM MANAGER(S) AND ADDRESS:

[CHANGE TO READ]

Vice President, Mail Entry and Payment Technology, United States Postal Service, 475 L'Enfant Plaza, SW., Washington, DC 20260.

* * * * *

USPS 880.000

SYSTEM NAME:

Post Office and Retail Services.

SYSTEM MANAGER(S) AND ADDRESS:

[CHANGE TO READ]

President and Chief Marketing/Sales Officer, United States Postal Service, 475 L'Enfant Plaza, SW., Washington, DC 20260.

Vice President, Delivery and Post Office Operations, United States Postal Service, 475 L'Enfant Plaza, SW., Washington, DC 20260.

Vice President, Global Business, United States Postal Service, 475 L'Enfant Plaza, SW., Washington, DC 20260.

* * * * *

USPS 890.000

SYSTEM NAME:

Sales, Marketing, Events, and Publications.

SYSTEM MANAGER(S) AND ADDRESS:

[CHANGE TO READ]

President and Chief Marketing/Sales Officer, United States Postal Service, 475 L'Enfant Plaza, SW., Washington, DC 20260.

[ADD TEXT]

Vice President, Consumer and Industry Affairs, United States Postal Service, 475 L'Enfant Plaza, SW., Washington, DC 20260.

* * * * *

NOTIFICATION PROCEDURE:

* * * * *

[CHANGE TO READ]

Customers wanting to know if other information about them is maintained in this system of records must address inquiries in writing to the President and Chief Marketing/Sales Officer, and include their name and address.

* * * * *

USPS 900.000

SYSTEM NAME:

International Services.

SYSTEM MANAGER(S) AND ADDRESS:

[CHANGE TO READ]

Vice President, Global Business, United States Postal Service, 475 L'Enfant Plaza, SW., Washington, DC 20260.

* * * * *

USPS 910.000

SYSTEM NAME:

Identity and Document Verification Services.

SYSTEM MANAGER(S) AND ADDRESS:

[CHANGE TO READ]

President and Chief Marketing/Sales Officer, United States Postal Service, 475 L'Enfant Plaza, SW., Washington, DC 20260.

* * * * *

NOTIFICATION PROCEDURE:

[DELETE TEXT]

For authentication services, electronic postmarks, and digital certificates, inquiries should be addressed to: Manager, Business Development and Identity Protection Services, United States Postal Service, 475 L'Enfant Plaza, SW., Room 5806, Washington, DC 20260.

* * * * *

Stanley F. Mires,
Attorney, Legal Policy & Legislative Advice.

[FR Doc. 2011-27362 Filed 10-21-11; 8:45 am]

BILLING CODE 7710-12-P